DEPARTMENT OF LABOR

Wage and Hour Division

[Administrative Order No. ]

Special Industry Committee for All Industries in American Samoa; Appointment; Convention; Hearing

ACTION: Re-opening and extension of period to submit pre-hearing statements.

SUMMARY: This document re-opens and extends the period for filing a pre-hearing statement in order to participate as a party in Industry Committee No. 26 for American Samoa.

DATES: Pre-hearing statements must be received on or before May 31, 2005.

ADDRESSES: Send pre-hearing statements to the U. S. Department of Labor, Employment Standards Administration, Wage and Hour Division, 200 Constitution Avenue, NW., Room S3502, Washington DC 20210 and to the Office of the Governor of American Samoa, P.O. Box 485, Pago Pago, American Samoa 96799.

FOR FURTHER INFORMATION CONTACT: Nancy M. Flynn, Director of Planning and Analysis, Wage and Hour Division, telephone: (202-693-0551)

SUPPLEMENTARY INFORMATION: In the Federal Register of May 4, 2005, (70 FR 23236), the Department of Labor published a notice to convene special Industry Committee No. 26 for American Samoa on June 20, 2005, in Pago Pago, American Samoa. As a prerequisite to participation as a party in the Committee hearing, interested persons shall file six copies of a pre-hearing statement at the Office of the Governor of American Samoa and six copies at the National Office of the Wage and Hour Division, U.S. Department of Labor, Washington, DC 20210. Each pre-hearing statement shall contain the data specified in 29 CFR 511.8 of the regulations. The time period for filing pre-hearing statements is extended to May 31, 2005. If such statements are sent by airmail between American Samoa and the mainland, such filing shall be deemed timely if postmarked within the time provided.

Signed in Washington, DC this 16th day of May, 2005.
Victoria A. Lipnic,
Assistant Secretary, Employment Standards Administration.

[FR Doc. 05-10099 Filed 5-19-05; 8:45 am]

BILLING CODE 4510-27-P